DEPARTMENT OF AGRICULTURE

Agricultural Marketing Service

7 CFR Part 948

Irish Potatoes Grown in Colorado

CFR Correction

In Title 7 of the Code of Federal Regulations, Parts 900 to 999, revised as of January 1, 2016, on page 338, § 948.215 is reinstated to read as follows:

§ 948.215 Assessment rate.

On or after July 1, 2005, an assessment rate of $0.02 per hundredweight is established for Colorado Area No. 3 potatoes.

[70 FR 36816, June 27, 2005]

[FR Doc. 2016-12582 Filed 5-25-16; 8:45 am]

BILLING CODE 1505-01-D